AGENCY FOR INTERNATIONAL DEVELOPMENT

Bureau for Democracy, Conflict and Humanitarian Assistance; Office of Food for Peace; Announcement of Final 2007 Food for Peace Guidelines and Procedures for International Food Relief Partnership (IFRP) Transportation and Distribution Applications; Notice

Pursuant to the Agricultural Trade Development and Assistance Act of 1954 (Public Law 480, as amended), notice is hereby given that the final FY 2007 Food for Peace Guidelines and Procedures for International Food Relief Partnership (IFRP) Transportation and Distribution Applications are available to interested parties for general viewing.

Individuals who wish to access the current guidelines should visit the Food for Peace Web site at http://www.usaid.gov/our_work/humanitarian_assistance/ffp/, or contact the Office of Food for Peace, via AMEX International, Attn: 2007 IFRP Applications, 1300 Pennsylvania Avenue, NW., Suite 700, Washington, DC 20004 or IFRP@amexdc.com.

William Hammink,
Director, Office of Food for Peace, Bureau for Democracy, Conflict and Humanitarian Assistance.

[FR Doc. E7-222 Filed 1-10-07; 8:45 am]

BILLING CODE 6116-01-P